DEPARTMENT OF VETERANS AFFAIRS

Advisory Committee Charter Renewals

AGENCY: Department of Veterans Affairs.

ACTION: Notice of Advisory Committee Charter Renewals.

SUMMARY: In accordance with the provisions of the Federal Advisory Committee Act (FACA) and after consultation with the General Services Administration, the Secretary of Veterans Affairs has determined that the following Federal advisory committee is vital to the mission of the Department of Veterans Affairs (VA) and renewing its charter would be in the public interest. Consequently, the charter for the following Federal advisory committee is renewed for a two-year period, beginning on the dates listed below:

Committee name | Committee description | Charter renewed on
Department of Veterans Affairs Voluntary Service National Advisory Committee | Provides advice on the coordination and promotion of volunteer activities within VA health care facilities, and on other matters relating to volunteerism | March 2, 2021.

The Secretary has also renewed the charter for the following statutorily authorized Federal advisory committee for a two-year period, beginning on the date listed below:

Committee name | Committee description | Charter renewed on
Research Advisory Committee on Gulf War Veterans' Illnesses | Provides advice on proposed research studies, plans, and strategies related understanding and treating the health consequences of military service in the Southwest Asia theater of operations during the 1990-1991 Gulf War (Operations Desert Shield and Desert Storm) | January 12, 2021.
Veterans' Advisory Committee on Education | Provides advice on the administration of education and training programs for Veterans and Servicepersons, Reservists, Guard personnel, and for dependents of Veterans, including programs under chapters 30, 32, 35, and 36 of title 38, and Chapter 1606 of title 10, U.S.C | March 12, 2021.
Advisory Committee on Structural Safety of Department of Veterans Affairs Facilities | Provides advice on all matters of structural safety in the construction and remodeling of VA facilities and recommends standards for use by VA in the construction and alteration of facilities | March 16, 2021.

FOR FURTHER INFORMATION CONTACT: Jeffrey Moragne, Committee Management Office, Department of Veterans Affairs, Advisory Committee Management Office (00AC), 810 Vermont Avenue NW, Washington, DC 20420; telephone 202-266-4660 or 202-714-1578; or via email at Jeffrey.Moragne@va.gov. To view a copy of a VA Federal advisory committee charters, please visit http://www.va.gov/advisory.

Dated: March 25, 2021.
Jelessa M. Burney,
Federal Advisory Committee Management Officer.

[FR Doc. 2021-06522 Filed 3-29-21; 8:45 am]

BILLING CODE 8320-01-P